DEPARTMENT OF JUSTICE

Antitrust Division

Notice Pursuant to the National Cooperative Research and Production Act of 1993—LiMo Foundation

Notice is hereby given that, on March 1, 2007, pursuant to Section 6(a) of the National Cooperative Research and Production Act of 1993, 15 U.S.C. 4301 et seq. (the “Act”), LiMo Foundation (the “Foundation”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Motorola, Inc., Libertyville, IL; NEC Corporation, Tokyo, JAPAN; Panasonic Mobile Communications Co., Ltd., Yokohama, JAPAN; Samsung Electronics Co., Ltd., Seoul, REPUBLIC OF KOREA; and Vodafone Group Services Limited, Newbury, Berkshire, UNITED KINGDOM. The nature and purpose of the Foundation is to develop a Linux-based, open mobile communication device software platform (the “Foundation Platform”); to advance the creation, evolution, promotion, and support of the Foundation Platform; and to cultivate an ecosystem of complementary products, capabilities, and services, along with all other things ancillary to the foregoing purposes.

Patricia A. Brink,
Deputy Director of Operations, Antitrust Division.

[FR Doc. 07-1727 Filed 4-6-07; 8:45 am]

BILLING CODE 4410-11-M